DEPARTMENT OF ENERGY

Proposed Phase 1 Decommissioning Plan for the West Valley Demonstration Project, West Valley, NY

AGENCY: Department of Energy.

ACTION: Notice of availability.

SUMMARY: The U.S. Department of Energy (DOE) announces the availability of the proposed Phase 1 Decommissioning Plan for the West Valley Demonstration Project (WVDP) at the Western New York Nuclear Service Center in West Valley, New York (WNYNSC). The proposed Phase 1 Decommissioning Plan is consistent with DOE's preferred alternative in the Revised Draft Environmental Impact Statement for the Decommissioning and/or Long-Term Stewardship at the West Valley Demonstration Project and Western New York Nuclear Service Center (Draft EIS, DOE/EIS-02260). DOE intends, at a future date, to issue a Record of Decision pursuant to the Final EIS. The proposed Phase 1 Decommissioning Plan is being reviewed by the U.S. Nuclear Regulatory Commission (NRC). The Department will consider NRC comments prior to the initiation of decontamination and decommissioning operations, and should DOE during the course of the National Environmental Policy Act process or as a result of comments from the NRC ultimately decide upon an approach that differs from the current preferred alternative in the Draft Decommissioning EIS, or adopt changes that affect the proposed Phase 1 Decommissioning Plan, then DOE will revise the Phase 1 Decommissioning Plan as necessary to reflect the changes.

ADDRESSES: Copies of the proposed Phase 1 Decommissioning Plan for the West Valley Demonstration Project are available for public inspection at the following locations:

U.S. Department of Energy, FOIA Reading Room, Room 1E-190, Forrestal Building, 1000 Independence Avenue, SW., Washington, DC 20585-0001;

Hulbert Library, DOE-WVDP Public Reading Room, 18 Chapel St., Springville, NY 14141. 716-592-7742; and

Ashford Office Complex Public Reading Room, 9030 Route 219, West Valley, NY 14171-0191. (716) 942-4679.

The proposed Phase 1 Decommissioning Plan is also available at:

The U.S. Department of Energy West Valley Demonstration Project Web site, at http://www.wv.doe.gov; and

The U.S. Nuclear Regulatory Commission Electronic Reading Room Web site, at http://www.nrc.gov/reading-rm/adams.html.

FOR FURTHER INFORMATION CONTACT:

Ms. Moira N. Maloney, Decommissioning Plan Project Manager, West Valley Demonstration Project, U.S. Department of Energy, 10282 Rock Springs Road, West Valley, NY 14171-0191;

Mr. Bryan C. Bower, Director, West Valley Demonstration Project, U.S. Department of Energy, 10282 Rock Springs Road, West Valley, NY 14171-0191; and

Mr. Desi Crouther, Director, Office of Small Sites Projects, Office of Environmental Management, U.S. Department of Energy, 1000 Independence Avenue, SW., Washington, DC 20585-0001.

SUPPLEMENTARY INFORMATION: The West Valley Demonstration Project Act (the Act), Public Law 96-368 of October 1, 1980, directed the Department of Energy to carry out a high-level radioactive waste management demonstration project at the WNYNSC. The purpose of the project was to demonstrate the solidification of high-level radioactive waste for disposal in a Federal repository. The Act also requires the Department to decontaminate and decommission the underground high-level waste storage tanks and other facilities where the solidified high-level radioactive waste was stored, the facilities used in the solidification of the waste, and any material and hardware used in connection with the project, in accordance with such requirements as the NRC may prescribe.

In accordance with the Act, DOE entered into an agreement with the NRC to establish arrangements for review and consultation by the NRC for the Project. The procedures for NRC review and consultation were established in the September 23, 1981 Memorandum of Understanding and section 2(c)(1) of the Act between DOE and NRC. Accordingly, DOE is to submit to NRC, for its review and comment, a Project Decommissioning Plan for the facilities that were used in solidifying the waste, which includes a description of engineering and operating activities to be performed. The plan is to be reviewed by the NRC and comments provided to DOE. DOE is to review and consider the comments provided prior to the initiation of decontamination and decommissioning operations.

The decommissioning activities described in the proposed Phase 1 Decommissioning Plan for the West Valley Demonstration Project are consistent with the Phased Decision-making Alternative, the preferred alternative described in the Revised Draft Environmental Impact Statement for Decommissioning and/or Long-Term Stewardship at the West Valley Demonstration Project and Western New York Nuclear Service Center. Under the Phased Decision-making Alternative, the decommissioning of the Project and WNYNSC would be completed in two phases. Phase 1 decommissioning activities within the Project premises, which are described in the proposed Phase 1 Decommissioning Plan, are near-term removal actions that include removal of the Main Plant Process Building, Vitrification Facility, source area of the North Plateau Groundwater Plume, wastewater treatment facility lagoons, and certain ancillary buildings, foundations, slabs, and pads on the WVDP premises. The Phase 2 decisions on the decommissioning of the remainder of the Project and WNYNSC, or its long-term management, would be made in the future and is not part of the proposed Phase 1 Decommissioning Plan.

DOE will issue a Record of Decision pursuant to section III.B.1 of the final EIS no sooner than 30 days after the U.S. Environmental Protection Agency has published its Notice of Availability in the Federal Register. DOE will revise the proposed Phase 1 Decommissioning Plan to be consistent with the Record of Decision as necessary.

Issued in Washington, DC, on December 1, 2008.
Cynthia Anderson,
Deputy Chief Operations Officer.

[FR Doc. E8-28807 Filed 12-4-08; 8:45 am]

BILLING CODE 6450-01-P